DEPARTMENT OF LABOR

Occupational Safety and Health Administration

National Advisory Committee on Ergonomics, Call for Abstracts

AGENCY: Occupational Safety and health Administration (OSHA), Labor

ACTION: Notice

SUMMARY: The National Advisory Committee on Ergonomics (NACE) is part of the Secretary's comprehensive approach to ergonomics designed to quickly and effectively address musculoskeletal disorders (MSDs) in the workplace. The committee has recommended that a symposium be convened to address current and project research needs and efforts relating to ergonomics, entitled Musculoskeletal and Neurovascular Disorders—The State of Research Regarding Workplace Etiology and Prevention. NACE will use proceedings from the symposium to make recommendations to advance OSHA's agenda of reducing the incidence of Musculoskeletal Disorders (MSDs) in the workplace. This notice announces a call for abstracts.

DATES: Abstract submissions are due November 5, 2003. The symposium will be held on January 27, 2004, in conjunction with the NACE's fourth meeting.

ADDRESSES: The symposium will be held in Washington, DC. Submit abstracts, comments, or statements in response to this notice to Mary Ann Garrahan, Director, Office of Technical Programs and Coordination Activities, OSHA, U.S. Department of Labor, Room N-3655, 200 Constitution Avenue, NW., Washington, DC 20210. Phone: (202) 693-2144; Fax (202) 693-1644.

FOR FURTHER INFORMATION CONTACT: OSHA, Office of Communications, Room N-3647, U.S. Department of Labor, 200 Constitution Avenue, NW., Washington, DC 20210; Phone: (202) 693-1999.

SUPPLEMENTARY INFORMATION: NACE was chartered for a two-year term on November 27, 2002, to provide advice and recommendations on ergonomic guidelines, research, and outreach and assistance. As part of the charter, NACE will provide OSHA with current and projected research needs and efforts relating to ergonomics. In order to provide information on known research gaps, NACE has asked that a symposium be convened to enable its members to hear from experts in the field or ergonomics. Published researchers are invited to submit abstracts on known research gaps relating to critical issues of and barriers to moving forward in the prevention of Musculoskeletal Disorders (MSDs), highlighting research issues that will help move the science into the applied world

Abstracts should focus on the state of the data-driven, scientific research concerning the relationship between the workplace and MSDs such as definitions and diagnoses, cause and work-relatedness, exposure-response relationships, intervention studies, and study design (including research methodology). Researches are expected to report on approved peer reviewed research proposals or work that has been published in peer reviewed journals. Abstracts should be no more than 600 words, and should include a page of references with a copy of the first page or each article that is cited, if applicable. Abstracts should clearly state the topic of the paper, research objective, relevant findings, and conclusion. An abstract template is available at http://www.osha.gov/SLTC/ergonomics/nat_advis_comm.html. Researchers should also submit a curriculum vitae. Please submit a hard copy and disk of all abstract submission by November 5, 2003 to Mary Ann Garrahan, Director, Office of Technical Programs and Coordination Activities, OSHA, U.S. Department of Labor, Room N-3655, 200 Constitution Avenue, NW., Washington, DC 20210. Phone: (202) 693-2144; Fax (202) 693-1644.

The symposium will take place in conjunction with NACE's January meeting in Washington, DC. The format of the symposium will be a one-day panel discussion expecting to consist of up to four 90-minute sessions. Between six and twelve speakers will be invited to give a short presentation each. Speakers will comprise into discussion panels. A question and answer period will follow, allowing for discussion among the panel members and NACE members.

For additional information on NACE and its objective, visit http://www.osha.gov/SLTC/ergonomics/nat_advis_comm.html.

Authority: This notice was prepared under the direction of John L. Henshaw, Assistant Secretary for Occupational Safety and Health. It is issued under the Federal Advisory Committee Act (FACA) (5 U.S.C. App. 2), GSA's FACA Regulations (41 CFR part 102-3), and DLMS 3 Chapter 1600.

Dated: Signed at Washington, DC this 1st day of October, 2003.
John L Henshaw,
Assistant Secretary.

[FR Doc. 03-25266 Filed 10-3-03; 8:45 am]

BILLING CODE 4510-26-P